Title 3—

The President

Executive Order 13842 of July 10, 2018

Establishing an Exception to Competitive Examining Rules for Appointment to Certain Positions in the United States Marshals Service, Department of Justice

By the authority vested in me as President by the Constitution and the laws of the United States of America, including sections 3301 and 3302 of title 5, United States Code, it is hereby ordered as follows:

Section 1. Providing Appointment Authority. (a) Good administration of the executive branch necessitates that the U.S. Marshals Service (USMS), a component of the Department of Justice, have a hiring authority that is currently available to other Federal law enforcement agencies and that would, among other things, enable the USMS to be competitive in recruiting high-quality Deputy U.S. Marshals and Criminal Investigators, to better hire and retain qualified individuals in certain duty locations, and to more expeditiously fill vacant positions consistent with law enforcement needs. Accordingly, it is appropriate to place Deputy U.S. Marshals and Criminal Investigators of the USMS in Schedule B of the excepted service, as it is impracticable to hold open competition or to apply usual competitive examining procedures for those positions related to Federal law enforcement.

(b) Appointments to the positions identified in subsection (a) of this section:

(i) may not be made to positions of a confidential or policy-determining character or to positions in the Senior Executive Service; and

(ii) shall constitute Schedule B appointments that are:

(A) excepted from the competitive service; and

(B) subject to laws and regulations governing Schedule B appointments, including basic qualification standards established by the Director of the Office of Personnel Management (Director) for the applicable occupation and grade level.

Sec. 2. Providing Conversion Authority. (a) Deputy U.S. Marshals and Criminal Investigators of the USMS appointed under Schedule B may, upon completion of 3 years of substantially continuous, fully satisfactory service, be converted non-competitively to career appointments, provided they meet the qualifications and other requirements established by the Director.

(b) The Director shall prescribe such regulations as may be necessary to implement this order.

Sec. 3. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

July 10, 2018.

[FR Doc. 2018-15195

Filed 7-12-18; 11:15 am]

Billing code 3295-F8-P